DEPARTMENT OF ENERGY

[FE Docket No. 00-53-NG, et al.]

Office of Fossil Energy; Chinook Pipeline Company (The Successor to Xeno, Inc.), et al.; Orders Granting and Transferring Authority To Import and Export Natural Gas

AGENCY: Office of Fossil Energy, DOE.

ACTION: Notice of orders.

SUMMARY: The Office of Fossil Energy (FE) of the Department of Energy gives notice that during December 2000, it issued Orders granting and transferring authority to import and export natural gas. These Orders are summarized in the attached appendix and may be found on the FE website at http://www.fe.doe.gov, or on the electronic bulletin board at (202) 586-7853. They are also available for inspection and copying in the Office of Natural Gas & Petroleum Import & Export Activities, Docket Room 3E-033, Forrestal Building, 1000 Independence Avenue, S.W., Washington, D.C. 20585, (202) 586-9478. The docket room is open between the hours of 8 a.m. and 4:30 p.m., Monday through Friday, except Federal holidays.

Issued in Washington, D.C., on January 9, 2001.
Clifford P. Tomaszewski,
Manager, Natural Gas Regulation, Office of Natural Gas & Petroleum, Import & Export Activities, Office of Fossil Energy.

Attachment.

Appendix.—Orders Granting and Transferring Import/Export Authorizations
[DOE/FE Authority]
Order No. | Date Issued | Importer/Exporter FE Docket No. | Import volume | Export volume | Comments
1615-A | 12/04/00 | Chinook Pipeline Company (The Successor to Xeno, Inc.) 00-53-NG |  |  | Transfer of blanket export authority.
992-A | 12/08/00 | Engage Energy Canada, L.P. (The Successor to Westcoast Gas Services Inc.) 94-74-NG |  |  | Transfer of long-term import authority.
993-A | 12/08/00 | Engage Energy Canada, L.P. (The Successor to Westcoast Gas Services Inc.) 94-75-NG |  |  | Transfer of long-term import authority.
994-A | 12/08/00 | Engage Energy Canada, L.P. (The Successor to Westcoast Gas Services Inc.) 94-76-NG |  |  | Transfer of long-term import authority.
996-A | 12/08/00 | Engage Energy Canada, L.P. (The Successor to Westcoast Gas Services Inc.) 94-78-NG |  |  | Transfer of long-term import authority.
1656 | 12/08/00 | Pemex Gas Y Petroquimica Basica 00-93-NG | (1)160 Bcf |  | Import and export a combined total to and from Canada and Mexico, beginning on January 1, 2001, and extending through December 31, 2002.
1657 | 12/08/00 | Hunt Oil Company of Canada, Inc. 00-95-NG | 6 Bcf |  | Import from Canada beginning on December 1, 2000, and extending through November 30, 2002.
1658 | 12/15/00 | Engage Energy Canada, L.P. 00-96-NG | 1,000 Bcf | 1,000 Bcf | Import from Canada, including LNG and export to Canada, beginning on January 1, 2001, and extending through December 31, 2002.
1659 | 12/18/00 | The Montana Power Company 00-94-NG | 20 Bcf |  | Import from Canada beginning on February 7, 2001, and extending through February 6, 2003.
1660 | 12/21/00 | Coast Energy Group, A Division of Cornerstone Propane L.P. 00-99-NG | 40 Bcf |  | Import and export a combined total to and from Canada and Mexico, beginning on January 1, 2001, and extending through December 31, 2002.
1661 | 12/22/00 | Sprague Energy Corp. 00-98-NG | 50 Bcf |  | Import from Canada beginning on January 1, 2001, and extending through December 31, 2002.
1662 | 12/26/00 | Wisconsin Gas Company 00-97-NG | 200 Bcf |  | Import from Canada beginning on January 1, 2001, and extending through December 31, 2002.
1663 | 12/27/00 | IDACORP Energy Solutions L.P. 00-100-NG | 730 Bcf |  | Import and export a combined total to and from Canada, beginning on December 20, 2000, and extending through December 19, 2002.

[FR Doc. 01-1479 Filed 1-17-01; 8:45 am]

BILLING CODE 6450-01-P